ENVIRONMENTAL PROTECTION AGENCY

[FRL-6705-6]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740,or email at Farmer.sandy@epa.gov,and please refer to the appropriate EPA Information Collection Request (ICR) Number.

SUPPLEMENTARY INFORMATION:

OMB Responses to Agency Clearance Requests

OMB Approvals

EPA ICR No. 1573.06; Part B Permit Application, Permit Modifications, and Special Permits; in 40 CFR parts 264 and 270; was approved 03/31/2000; OMB No. 2050-0009; expires 03/31/2003.

EPA ICR No. 0029.07; National Pollutant Discharge Elimination System (NPDES) Modification and Variance Requests; in 40 CFR parts 122.62 and 122.63; was approved 04/04/2000; OMB No. 2040-0068; expires 04/30/2003.

EPA ICR No. 1560.05; National Water Quality Inventory Reports “ Clean Water Act Sections 305(b), 303(d), 314(a), and 106(e); in 40 CFR part 130.10(2); was approved 04/05/2000; OMB No. 2040-0071; expires 04/30/2003.

EPA ICR No. 0168.07; Pollutant Discharge Elimination System and Sewage Sludge Management State Programs; in 40 CFR parts 122 through 125; was approved 04/10/2000; OMB No. 2040-0057; expires 04/30/2003.

EPA ICR No. 0226.15; Applications for NPDES Discharge Permits and the Sewage Management Permits; in 40 CFR parts 122 through 125, 403, and 501; was approved 04/11/2000; OMB No. 2040-0086; expires 04/30/2003.

EPA ICR No. 1569.04; Approval of State Coastal Non-point Control Program “ CZARA Section 6217; was approved 04/1/2000; OMB No. 2040-0153; expires 04/30/2003.

EPA ICR No. 1500.04; National Estuary Program; in 40 CFR part 35, subpart P was approved 04/11/2000; OMB No. 2040-0138; expires 04/30/2003.

EPA ICR No. 1727.02; Evaluation of the Burden of Waterborne Disease Within Communities in the United States; was approved 04/20/2000; OMB No. 2080-0050; expires 04/30/2003.

Extensions of Expiration Dates

EPA ICR No. 0276.08; Application for Experimental Use Permit (EUP) to Ship and Use a Pesticide for Experimental Purposes Only; in 40 CFR part 172; OMB No. 2070-0040; on 02/29/2000 OMB extended the expiration date through 05/31/2000.

EPA ICR No. 1780.01; Voluntary Cover Sheet for TSCA Submissions; OMB No. 2070-0156; on 03/30/2000 OMB extended the expiration date through 06/30/2000.

EPA ICR No. 0282.10; Emission Defect Information and Voluntary Emission Recall Reports; in 40 CFR part 85, subpart T, and 40 CFR part 91, subpart I; OMB No. 2060-0048; on 03/30/2000 OMB extended the expiration date through 08/31/2000.

EPA ICR No. 1000.06; Polychlorinated Biphenyls (PCBs) Used in Electrical Equipment; in 40 CFR part 761; OMB No. 2070-0003; on 03/30/2000 OMB extended the expiration date through 09/30/2000.

EPA ICR No. 1796.01; Industrial Combustion Coordinated Rule-making (ICCR) Questionnaire; OMB No. 2060-0355; on 03/30/2000 OMB extended the expiration date through 09/30/2000.

EPA ICR No. 1504.03; Data Generation for Registration Activities; in 40 CFR part 158; OMB No. 2070-0107; on 03/31/2000 OMB extended the expiration date through 05/31/2000.

EPA ICR No. 0597.06; Maximum Residue Limit (MRL) Petitions on Food/Feed Crops and New Inert Ingredients; in 40 CFR parts 177 and 180; OMB No. 2070-0024; on 03/31/2000 OMB extended the expiration date through 06/30/2000.

EPA ICR No. 0922.05; Data Call-in for Special Review Chemicals; in 40 CFR part 158; OMB No. 2070-0057; on 03/31/2000 OMB extended the expiration date through 06/30/2000.

EPA ICR No. 1774.01; Mobile Air Conditioner Retrofitting Program; in 40 CFR part 82; OMB No. 2060-0350; on 04/20/2000 OMB extended the expiration date through 06/30/2000.

Comments Filed

EPA ICR No. 1920.01; Revisions to Regulatory Provisions Governing Permit Issuance for the National Pollutant Discharge Elimination System; on 04/11/2000 OMB filed comment.

EPA ICR No. 0002.10; Revision of Information Request for National Pretreatment Program; in 40 CFR part 403; OMB No. 2040-0009; on 04/10/2000 OMB filed comment.

EPA ICR No. 0229.14; Standards for the use or Disposal of Sewage Sludge—Round 2 Amendments to 40 CFR part 503; OMB No. 2040-0004; on 04/13/2000 OMB filed comment.

Action Withdrawn

ICR No. 1940.01; Health Effects of Particulate Matter and Co-Pollutant Exposures Near the El Paso/Juarez Border Crossings; on 04/25/2000 OMB filed comment.

Dated: May 17, 2000.
Oscar Morales,
Director, Collection Strategies Division.

[FR Doc. 00-13206 Filed 5-25-00; 8:45 am]

BILLING CODE 6560-50-P